NUCLEAR REGULATORY COMMISSION

Sunshine Act Meeting

AGENCY HOLDING MEETING: Nuclear Regulatory Commission.

DATE: Weeks of August 4, 21, 28, September 4, 11, and 18, 2000.

PLACE: Commissioners' Conference Room, 11555 Rockville Pike, Rockville, Maryland.

STATUS: Public and Closed.

MATTERS TO BE CONSIDERED:

Week of August 14

Tuesday, August 15

9:25 a.m.

Affirmation Session (Public Meeting) (if necessary)

9:30 a.m.

Briefing on NRC International Activities (Public Meeting) (Contact: Ron Hauber, 301-415-2344)

This meeting will be webcast live at the Web address—vvv.nrc.gov/live.html

Week of August 21—Tentative

Monday, August 21

1:55 p.m.

Affirmation Session (Public Meeting) (if necessary)

Week of August 28—Tentative

There are no meetings scheduled for the Week of August 28.

Week of September 4—Tentative

There are no meetings scheduled for the Week of September 4.

Week of September 11—Tentative

There are no meetings scheduled for the Week of September 11.

Week of September 18—Tentative

There are no meetings scheduled for the Week of September 18.

The schedule for Commission meetings is subject to change on short notice. To verify the status of meetings call (Recording)—(301) 415-1292.

CONTACT PERSON FOR MORE INFORMATION: Bill Hill (301) 415-1661.

The NRC Commission Meeting Schedule can be found on the Internet at:

http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: August 9, 2000.
William M. Hill, Jr.,
Secy Tracking Officer, Office of the Secretary.

[FR Doc. 00-20533 Filed 8-9-00; 1:18 pm]

BILLING CODE 7590-01-M